DEPARTMENT OF HOMELAND SECURITY

8 CFR Parts 215, 235, and 252

[DHS 2004-0002]

RIN 1650-AA00

Notice of Nonimmigrant Aliens Subject To Be Enrolled in the United States Vistor and Immigrant Status Indicator Technology System (US-VISIT); Extension of Comment Period

Correction

In rule document 04-24811 beginning on page 64477 in the issue of Friday, November 5, 2004, make the following correction:

On page 64477, in the third column, the docket number is corrected to read as set forth above.

[FR Doc. C4-24811 Filed 11-10-04; 8:45 am]

BILLING CODE 1505-01-D

DEPARTMENT OF LABOR

Employment and Training Adminstration

Proposed Information Collection Request Submitted for Public Comment and Recommendations; Disaster Unemployment Assistance Handbook and Operating Forms

Correction

In notice document E4-3030 beginning on page 64593 in the issue of Friday, November 5, 2004, make the following correction:

On page 64593, in the second column, under the heading “dates”, in the second line, “January 4, 2004” should read “January 4, 2005”.

[FR Doc. Z4-3030 Filed 11-10-04; 8:45 am]

BILLING CODE 1505-01-D